Title 3—

The President

Proclamation 8105 of February 2, 2007

National Consumer Protection Week, 2007

By the President of the United States of America

A Proclamation

During National Consumer Protection Week, citizens are urged to learn more about the risks of fraud and identity theft and take precautions to protect themselves from these crimes.

Americans can help prevent fraud and identity theft by becoming informed consumers. The Federal Trade Commission suggests that individuals safeguard personal information such as Social Security and account numbers, closely monitor their financial accounts, and report any problems or suspicious activity. When doing business through the Internet, it is especially important to protect personal data with appropriate software and commonsense security practices. Consumers and businesses can find resources on how to avoid identity theft and fraud by visiting the Federal Government's consumer protection website, www.consumer.gov.

My Administration is committed to protecting consumers from fraud, deception, and unfair business practices. In May 2006, I signed an Executive Order creating the Nation's first Identity Theft Task Force, comprised of the heads of executive departments and agencies. This Task Force is implementing a comprehensive strategy to prevent identity theft, prosecute those who commit fraud, and help victims. Through these and other efforts, we are helping to ensure that consumers have the tools they need to secure their personal information, monitor their financial accounts, maintain their privacy, and make responsible decisions to guard against fraud.

Consumer fraud takes advantage of the trust and integrity that characterizes our country's marketplace. By remaining vigilant and defending against fraud, Americans can protect their financial security and help our Nation's economy remain strong.

NOW, THEREFORE, I, GEORGE W. BUSH, President of the United States of America, by virtue of the authority vested in me by the Constitution and laws of the United States, do hereby proclaim February 4 through February 10, 2007, as National Consumer Protection Week. I call upon Government officials, industry leaders, and consumer advocates to provide citizens with information about how they can prevent fraud and identity theft, and I encourage all citizens to be responsible consumers and take an active role in protecting their personal information.

IN WITNESS WHEREOF, I have hereunto set my hand this second day of February, in the year of our Lord two thousand seven, and of the Independence of the United States of America the two hundred and thirty-first.

[FR Doc. 07-596

Filed 2-7-07; 8:45 am]

Billing code 3195-01-P